DEPARTMENT OF COMMERCE

National Institute of Standards and Technology

Manufacturing Extension Partnership Advisory Board

AGENCY: National Institute of Standards and Technology, Department of Commerce.

ACTION: Notice of public meeting.

SUMMARY: Pursuant to the Federal Advisory Committee Act, 5 U.S.C. app. 2, notice is hereby given that the Manufacturing Extension Partnership (MEP) Advisory Board, National Institute of Standards and Technology (NIST) will meet Wednesday, October 22, 2008, from 11 a.m. to 5 p.m. The MEP Advisory Board is composed of 10 members appointed by the Director of NIST who were selected for their expertise in the area of industrial extension and their work on behalf of smaller manufacturers. The Board was established to fill a need for outside input on MEP. MEP is a unique program consisting of centers across the United States and Puerto Rico, with partnerships at the state, federal, and local levels. The Board works closely with MEP to provide input and advice on MEP's programs, plans, and policies. For this meeting, discussions will focus on updates of MEP current key initiatives, MEP's next generation strategic plan and opportunities for MEP in emerging industries. The agenda may change to accommodate Board business.

DATES: The meeting will convene October 22, 2008 at 11 a.m. and will adjourn at 5 p.m. on October 22, 2008.

ADDRESSES: The meeting will be held at The Inn & Conference Center, University of Maryland University College, 3501 University Blvd E, Adelphi, Maryland 20783. Anyone wishing to attend this meeting should submit name, e-mail address and phone number to Susan Hayduk (susan.hayduk@nist.gov or 301-975-5615) no later than October 17, 2008.

FOR FURTHER INFORMATION CONTACT: Karen Lellock, Manufacturing Extension Partnership, National Institute of Standards and Technology, Gaithersburg, Maryland 20899-4800, telephone number (301) 975-4269.

Dated: September 2, 2008.
James M. Turner,
Deputy Director.

[FR Doc. E8-21148 Filed 9-10-08; 8:45 am]

BILLING CODE 3510-13-P